Title 3—

The President

Proclamation 8948 of March 29, 2013

National Cancer Control Month, 2013

By the President of the United States of America

A Proclamation

For more than a decade, Americans have watched the overall cancer death rate drop lower and lower with each passing year. As a Nation, we have measured that progress not just in the lives we have saved, but also in the moments we have shared—patients lifted up by the promise of remission, parents blessed with the chance to watch their children grow up, young people confident that a diagnosis cannot put a limit on their dreams. But even with the gains we have made, we know there is more work to do when more than half a million Americans lose their lives to cancer every year. This month, we rededicate ourselves to securing better outcomes, reducing new cases, and advancing cancer research.

To beat this disease, we must continue our efforts to prevent it. Each of us can reduce our risk of developing cancer by maintaining a healthy weight, exercising regularly, limiting alcohol intake and sun exposure, and living tobacco-free. For help quitting smoking, visit www.BeTobaccoFree.gov. Additional resources on what cancer is and how to prevent it are available at www.Cancer.gov.

Detecting cancer early gives patients the best chance for successful treatment. Thanks to the Affordable Care Act, insurers are required to cover recommended cancer screenings and other preventive services at no out-of-pocket cost to the patient—a provision that has already helped nearly 71 million people. To build on those gains and stop cancer before it takes hold, I encourage all Americans to see their health care providers for regular screenings and check-ups.

Expanding on today's progress also means investing in tomorrow's breakthroughs. My Administration is committed to supporting the kind of medical research that has unlocked decades of new therapies and promising interventions. Beginning in 2014, the Affordable Care Act will also give cancer patients better access to those treatments by preventing insurance companies from denying coverage because of a pre-existing condition or putting annual dollar limits on most benefits.

Together, our Nation is moving forward in the fight against cancer. As we recommit to improving prevention, detection, and treatment, let us honor the memory of the courageous men and women we have lost to the disease, and let us stand with all those facing it today.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2013 as National Cancer Control Month. I encourage citizens, government agencies, private businesses, nonprofit organizations, and other interested groups to join in activities that will increase awareness of what Americans can do to prevent and control cancer.

IN WITNESS WHEREOF, I have hereunto set my hand this twenty-ninth day of March, in the year of our Lord two thousand thirteen, and of the Independence of the United States of America the two hundred and thirty-seventh.

[FR Doc. 2013-07919

Filed 4-3-13; 8:45 am]

Billing code 3295-F3